DEPARTMENT OF COMMERCE

Foreign-Trade Zones Board

(Docket 27-2005)

Foreign-Trade Zone 101, Clinton County, Ohio, Application for Expansion

An application has been submitted to the Foreign-Trade Zones (FTZ) Board (the Board) by Airborne FTZ, Inc., grantee of FTZ 101, requesting authority to expand FTZ 101 to a site in Fayette County, Ohio. The application was submitted pursuant to the provisions of the Foreign-Trade Zones Act, as amended, (19 U.S.C. 81a-81u), and the regulations of the Board (15 CFR Part 400). It was formally filed on June 3, 2005.

FTZ 101 was approved on May 1, 1984 (Board Order 250, 49 F.R. l9688, 5/9/84), and expanded on December 29, 1982 (Board Order 623, 58 F.R. 537, 1/6/93). FTZ 101 currently consists of four sites (575 acres) on the former Clinton County Air Force Base in Wilmington, Ohio: Site 1 (178 acres) at the Airborne Commerce Park Sort Center & Warehouse; Site 2 (41 acres) at the Airborne Commerce Park Stock Exchange; Site 3 (114 acres) on Route 73, part of the Airborne Commerce Park; and Site 4 (242 acres) on McCoy Road, part of the Airborne Commerce Park.

The applicant is now requesting authority to expand the zone to include a site in Fayette County, Ohio. The proposed site consists of 1079 acres at the Central Ohio Logistics Center in Jefferson Township.

In accordance with the Board's regulations, a member of the FTZ staff has been appointed examiner to investigate the application and report to the Board.

Public comment is invited from interested parties. Submissions (original and 3 copies) shall be addressed to the Board's Executive Secretary at one of the following addresses:

1. Submissions Via Express/Package Delivery Services: Foreign-Trade-Zones Board, U.S. Department of Commerce, Franklin Court Building—Suite 4100W, 1099 14th St. NW, Washington, D.C. 20005; or

2. Submissions Via the U.S. Postal Service: Foreign-Trade-Zones Board, U.S. Department of Commerce, FCB—Suite 4100W, 1401 Constitution Ave. NW, Washington, D.C. 20230.

The closing period for their receipt is August 15, 2005. Rebuttal comments in response to material submitted during the foregoing period may be submitted during the subsequent 15-day period (to August 29, 2005).

A copy of the application and accompanying exhibits will be available for public inspection at the Office of the Foreign-Trade Zones Board's Executive Secretary at the first address listed above, and at the U.S. Department of Commerce Export Assistance Center, 36 East 7th Street, Suite 2650 Cincinnati, OH 45202.

Dated: June 3, 2005
Dennis Puccinelli,
Executive Secretary.

[FR Doc. 05-11740 Filed 6-13-05; 8:45 am]

Billing Code: 3510-DS-S